DEPARTMENT OF TRANSPORTATION

Federal Aviation Administration

14 CFR Part 39

[Docket No. FAA-2014-0529; Directorate Identifier 2013-NM-260-AD]

RIN 2120-AA64

Airworthiness Directives; Airbus Airplanes

Correction

In proposed rule document 2014-19157 beginning on page 47395 in the issue of Wednesday, August 13, 2014, make the following correction:

§ 39.13 [Corrected]

On page 47399, in the table titled “Figure 1 to Paragraph (i) of This AD—AFM Revision”, in the fourth line, “AGN-32” should read “ABN-32”.

[FR Doc. C1-2014-19157 Filed 8-26-14; 8:45 am]

BILLING CODE 1505-01-D